DEPARTMENT OF TRANSPORTATION

Federal Aviation Administration

14 CFR Part 97

[Docket No. 30810; Amdt. No. 3450]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective November 10, 2011. The compliance date for each SIAP, associated Takeoff Minimums, and ODP is specified in the amendatory provisions.

The incorporation by reference of certain publications listed in the regulations is approved by the Director of the Federal Register as of November 10, 2011.

ADDRESSES: Availability of matters incorporated by reference in the amendment is as follows:

For examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or

4. The National Archives and Records Administration (NARA). For information on the availability of this material at NARA, call (202) 741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on October 28, 2011.
John McGraw,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 15 DEC 2011

McGrath, AK, McGrath, RNAV (GPS) RWY 16, Amdt 1

McGehee, AR, McGehee Muni, RNAV (GPS) RWY 18, Orig

McGehee, AR, McGehee Muni, RNAV (GPS) RWY 36, Orig

McGehee, AR, McGehee Muni, VOR/DME-A, Amdt 3

Phoenix, AZ, Phoenix-Mesa Gateway, RNAV (GPS) RWY 12R, Amdt 1

Phoenix, AZ, Phoenix-Mesa Gateway, RNAV (GPS) RWY 30L, Amdt 1

Blythe, CA, Blythe, RNAV (GPS) RWY 26, Amdt 1

Cloverdale, CA, Cloverdale Muni, Takeoff Minimums and Obstacle DP, Amdt 1

Davis/Woodland/Winters, CA, Yolo County, RNAV (GPS) RWY 16, Amdt 2

Oxnard, CA, Oxnard, ILS OR LOC RWY 25, Amdt 13

Oxnard, CA, Oxnard, LOC RWY 25, Orig, CANCELLED

Oxnard, CA, Oxnard, RNAV (GPS) RWY 25, Amdt 1

Oxnard, CA, Oxnard, VOR RWY 25, Amdt 10

Stockton, CA, Stockton Metropolitan, ILS OR LOC RWY 29R, Amdt 20

Stockton, CA, Stockton Metropolitan, NDB RWY 29R, Amdt 14E, CANCELLED

Holyoke, CO, Holyoke, Takeoff Minimums & Obstacle DP, Amdt 1

Bonifay, FL, Tri-County, NDB-A, Amdt 2

Bonifay, FL, Tri-County, RNAV (GPS) RWY 19, Orig

Donalsonville, GA, Donalsonville Muni, RNAV (GPS) RWY 18, Amdt 1

Donalsonville, GA, Donalsonville Muni, RNAV (GPS) RWY 36, Amdt 1

Jasper, GA, Pickens County, RNAV (GPS) RWY 16, Amdt 1

Nahunta, GA, Brantley County, RNAV (GPS) Y RWY 1, Orig

Nahunta, GA, Brantley County, RNAV (GPS) Y RWY 19, Orig

Nahunta, GA, Brantley County, RNAV (GPS) Z RWY 1, Orig

Nahunta, GA, Brantley County, RNAV (GPS) Z RWY 19, Orig

Driggs, ID, Driggs-Reed Memorial, LAMON ONE Graphic DP

Driggs, ID, Driggs-Reed Memorial, LAMON TWO Graphic DP, CANCELLED

Driggs, ID, Driggs-Reed Memorial, RNAV (GPS) RWY 3, Amdt 1

Driggs, ID, Driggs-Reed Memorial, Takeoff Minimums & Obstacle DP, Amdt 3

Battle Creek, MI, W K Kellog, VOR OR TACAN RWY 5, Amdt 19A, CANCELLED

Hancock, MI, Houghton County Memorial, Takeoff Minimums and Obstacle DP, Amdt 3

Lansing, MI, Capital Region Intl, ILS OR LOC RWY 10R, Amdt 10

Three Rivers, MI, Three Rivers Muni Dr. Haines, Takeoff Minimums and Obstacle DP, Orig

Brainerd, MN, Brainerd Lakes Rgnl, ILS OR LOC/DME RWY 34, Amdt 1

Park Rapids, MN, Park Rapids Muni-Konshok Field, NDB RWY 31, Amdt 2

Park Rapids, MN, Park Rapids Muni-Konshok Field, RNAV (GPS) RWY 13, Orig

Park Rapids, MN, Park Rapids Muni-Konshok Field, RNAV (GPS) RWY 31, Orig

Park Rapids, MN, Park Rapids Muni-Konshok Field, VOR RWY 31, Amdt 14

Park Rapids, MN, Park Rapids Muni-Konshok Field, VOR/DME RWY 13, Amdt 9

Red Wing, MN, Red Wing Rgnl, ILS OR LOC RWY 9, Amdt 1

Red Wing, MN, Red Wing Rgnl, RNAV (GPS) RWY 9, Amdt 1

St Paul, MN, St Paul Downtown Holman Fld, Takeoff Minimums and Obstacle DP, Amdt 8

Branson West, MO, Branson West Muni-Emerson Field, Takeoff Minimums and Obstacle DP, Orig

Fort Leonard Wood, MO, Waynesville-St. Robert Rgnl Forney Fld, Takeoff Minimums and Obstacle DP, Orig

Manteo, NC, Dare County Rgnl, GPS RWY 5, Orig, CANCELLED

Manteo, NC, Dare County Rgnl, GPS RWY 17, Orig, CANCELLED

Manteo, NC, Dare County Rgnl, GPS RWY 23, Orig, CANCELLED

Manteo, NC, Dare County Rgnl, NDB RWY 17, Amdt 6

Manteo, NC, Dare County Rgnl, RNAV (GPS) RWY 5, Orig

Manteo, NC, Dare County Rgnl, RNAV (GPS) RWY 17, Orig

Manteo, NC, Dare County Rgnl, RNAV (GPS) RWY 23, Orig

Manteo, NC, Dare County Rgnl, Takeoff Minimums and Obstacle DP, Amdt 2

Morganton, NC, Foothills Rgnl, LOC RWY 3, Amdt 2

Kimball, NE., Kimball Muni/Robert E Arraj Field, RNAV (GPS) RWY 10, Amdt 1

Kimball, NE., Kimball Muni/Robert E Arraj Field, RNAV (GPS) RWY 28, Amdt 1

Carlsbad, NM, Cavern City Air Terminal, RNAV (GPS) RWY 32L, Amdt 1

Ely, NV, Ely Arpt/Yelland Fld, RNAV (GPS) RWY 18, Amdt 1

Minden, NV, Minden-Tahoe, MINDEN TWO Graphic DP

Minden, NV, Minden-Tahoe, Takeoff Minimums and Obstacle DP, Amdt 2

Cleveland, OH, Cleveland-Hopkins Intl, ILS OR LOC RWY 28, Amdt 24

Cleveland, OH, Cleveland-Hopkins Intl, RNAV (GPS) RWY 10, Amdt 3

Cleveland, OH, Cleveland-Hopkins Intl, RNAV (GPS) RWY 28, Amdt 2

North Bend, OR, Southwest Oregon Rgnl, ILS OR LOC RWY 4, Amdt 7A

North Bend, OR, Southwest Oregon Rgnl, VOR/DME RWY 4, Amdt 10

Wilkes-Barre/Scranton, PA, Wilkes-Barre/Scranton Intl, NDB-A, Amdt 17A, CANCELLED

Paris, TN, Henry County, ILS OR LOC/NDB RWY 2, Amdt 1, CANCELLED

Abilene, TX, Abilene Rgnl, VOR RWY 22, Amdt 4, CANCELLED

Gruver, TX, Gruver Muni, RNAV (GPS) RWY 2, Orig

Gruver, TX, Gruver Muni, RNAV (GPS) RWY 20, Orig

Gruver, TX, Gruver Muni, VOR/DME OR GPS-B, Orig, CANCELLED

Lamesa, TX, Lamesa Muni, Takeoff Minimums and Obstacle DP, Orig

Brigham City, UT, Brigham City, RNAV (GPS) RWY 35, Amdt 2

Provo, UT, Provo Muni, ILS OR LOC/DME RWY 13, Amdt 2

Provo, UT, Provo Muni, RNAV (GPS) RWY 13, Amdt 2

Gordonsville, VA, Gordonsville Muni, RNAV (GPS) RWY 5, Orig

Gordonsville, VA, Gordonsville Muni, RNAV (GPS) RWY 23, Orig

Gordonsville, VA, Gordonsville Muni, Takeoff Minimums and Obstacle DP, Orig

[FR Doc. 2011-28929 Filed 11-9-11; 8:45 am]

BILLING CODE 4910-13-P